OFFICE OF PERSONNEL MANAGEMENT

Science and Technology (S&T) Laboratory Personnel Management Demonstration Project, Department of the Army, U.S. Army Engineer Research & Development Center (ERDC)

AGENCY: U.S. Office of Personnel Management (OPM).

ACTION: Notice of change to reduction-in-force (RIF) procedures to recognize performance based on the average of the last three annual performance scores in the most recent 4-year period as a criterion to establish retention registers.

SUMMARY: 5 U.S.C. 4703 authorizes OPM to conduct demonstration projects that experiment with new and different personnel management concepts to determine whether such changes in personnel policy or procedures would result in improved Federal personnel management.

Public Law 103-337, October 5, 1994, permits the Department of Defense (DoD), with the approval of OPM, to carry out personnel demonstration projects at S&T Reinvention Laboratories. This notice identifies a revision to the ERDC plan where an average of three annual performance scores is used instead of a single performance score to determine an employee's retention standing in a reduction in force.

DATES: This revision to the ERDC demonstration project will be implemented May 22, 2000.

FOR FURTHER INFORMATION CONTACT: ERDC: Dr. C.H. Pennington, U.S. Army Engineer Research & Development Center, ATTN: CEERD-ZT-E, 3909 Halls Ferry Road, Vicksburg, Mississippi 39180-6199, phone 601-634-3549.

OPM: Ms. Joan M. Jorgenson, U. S. Office of Personnel Management, 1900 E Street NW Room 7458, Washington, DC 20415, phone 202-606-1315.

SUPPLEMENTARY INFORMATION:

1. Background

OPM approved and published the final plan in the Federal Register for the following S&T Reinvention Laboratory Demonstration Project.

A. U.S. Army Engineer Waterways Experiment Station (WES) final publication on Tuesday, March 3, 1998, Volume 63, Number 41, Part IV.

WES correction and re-publication on Wednesday, March 25, 1998, Volume 63, Number 57, Part V.

B. Publication of amendment to expand coverage of the WES project to include the Construction Engineering Research Laboratory, Cold Regions Research & Engineering Laboratory, and Topographic Engineering Center. Published in the Federal Register on Friday, October 16, 1998, Volume 63, Number 200, Part V.

Note: The WES demonstration project was renamed the ERDC demonstration project following consolidation of the Army Corps of Engineers' laboratories.

C. Publication of an amendment to include competitive examining and Distinguished Scholastic Achievement Appointment authorities as part of the ERDC plan. Published in the Federal Register on Thursday, March 11, 1999, Volume 64, Number 47, Part II.

This demonstration project involves simplified job classification, pay banding, a performance-based compensation system, employee development provisions, and modified RIF procedures.

2. Overview

The action to combine all Corps of Engineers laboratories into the ERDC and expand coverage of the WES Personnel Management Demonstration Project to the entire ERDC prompted a review of the provisions of the project to assure acceptance by all levels of management, employees, and bargaining units. The review revealed that the best interests of all involved would be better served by revising the manner in which performance is recognized in RIF procedures to allow for performance based on a longer period than that represented by a single performance score.

Dated: May 9, 2000.
Office of Personnel Management.
Janice R. Lachance,
Director.

I. Executive Summary

The Department of the Army established the personnel management demonstration projects to be generally similar to the system in use at the Navy personnel demonstration project known as China Lake. The projects and this amendment are built upon the concepts of linking performance to pay for all covered positions; simplifying paperwork in the processing of classification and other personnel actions; emphasizing partnerships among management, employees, and unions; and delegating other authorities to line managers.

II. Introduction

The demonstration project at the ERDC attempts to provide managers with the authority, control and flexibility to achieve quality laboratories and quality products. These goals are met by employing the best candidates and ensuring the best employees are retained in the event of a reduction in force. The purpose of this amendment is to revise the procedures to recognize employee performance in establishing retention registers by basing the criterion on the average of the last three annual performance scores in the most recent 4-year period instead of the last single performance score. This considers employee performance over a longer period of time. Other basic provisions of the approved plan are unchanged.

III. Personnel System Changes

This project is built upon the concepts of linking performance to pay, simplifying paperwork in the processing of classification and other personnel actions, emphasizing partnerships among management, employees and unions, and delegating certain authorities to line managers. Pay for performance is accomplished by assigning a numerical score to an employee's performance at the end of the annual rating cycle and using the score to determine the employee's pay increase. Currently, the score is also used to determine in part an employee's retention standing in the event of a reduction in force. For RIF purposes, this amendment proposes instead to recognize employee performance by averaging the last three performance scores rather than using only the last performance score.

The Federal Register, Volume 63, Number 57, dated March 25, 1998, Section III.H.2. (Retention), page 14593, first paragraph, first sentence, is amended to read as follows:

Retention registers will be established based on the following criteria listed in order of priority: Tenure status (Tenure I—career, Tenure II—career conditional, Tenure III—modified term); veterans' preference; the average of the last three annual employee performance scores in the most recent 4-year period; and service computation date.

The use of three performance scores recognizes that an employee's performance may vary from one year to the next because of unforeseen circumstances such as an illness, relocation, a change in workload, or reorganization. The amendment incorporates the recommendations of management, employees and unions, ensures the very best employees are retained in the event of a RIF, and continues to support the objectives of the ERDC personnel management demonstration project.

[FR Doc. 00-12688 Filed 5-19-00; 8:45 am]

BILLING CODE 6325-01-P